NUCLEAR REGULATORY COMMISSION

[Docket Nos. 52-025 and 52-026; NRC-2008-0252]

Southern Nuclear Operating Company, Inc.; Vogtle Electric Generating Plant, Units 3 and 4; Cyber Security Plan Changes

AGENCY: Nuclear Regulatory Commission.

ACTION: Combined license amendment; issuance.

SUMMARY: The U.S. Nuclear Regulatory Commission (NRC) is issuing License Amendment No. 179 for Unit 3 and No. 178 for Unit 4 to Combined Licenses (COLs), NPF-91 and NPF-92. The COLs were issued to Southern Nuclear Operating Company, Inc., and Georgia Power Company, Oglethorpe Power Corporation, MEAG Power SPVM, LLC, MEAG Power SPVJ, LLC, MEAG Power SPVP, LLC, and the City of Dalton, Georgia (collectively SNC); for construction and operation of the Vogtle Electric Generating Plant (VEGP) Units 3 and 4, located in Burke County, Georgia.

DATES: The amendments were issued on April 30, 2020.

ADDRESSES: Please refer to Docket ID NRC-2008-0252 when contacting the NRC about the availability of information regarding this document. You may obtain publicly-available information related to this document using any of the following methods:

• Federal Rulemaking Website: Go to http://www.regulations.gov and search for Docket ID NRC-2008-0252. Address questions about NRC dockets in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document. The request for the amendment was submitted by letter dated December 20, 2019, and is available in ADAMS under Accession No. ML19354B986.

FOR FURTHER INFORMATION CONTACT: Billy Gleaves, Office of New Reactors, U.S. Nuclear Regulatory Commission, Washington, DC 20555-0001; telephone: 301-415-5848; email: Bill.Gleaves@nrc.gov.

SUPPLEMENTARY INFORMATION:

I. Introduction

The NRC is issuing VEGP Units 3 and 4 License Amendment Nos. 179 and 178 to COLs NPF-91 and NPF-92. With the requested amendment, SNC proposed changes to the VEGP Units 3 and 4 Cyber Security Plan (CSP) to identify the VEGP Units 1 and 2 CSP for cyber security protection of digital assets in common systems, to align language in the VEGP Units 3 and 4 CSP with the corresponding elements of the NRC-endorsed CSP template contained in Nuclear Energy Institute (NEI) 08-09, Revision 6, including Addendum 1, and to enhance certain controls for the VEGP Units 3 and 4 protection and safety monitoring system.

II. License Amendment Request

By letter dated December 20, 2019, and available in ADAMS under Accession No. ML19354B986, SNC requested that the NRC amend the COLs for VEGP, Units 3 and 4, COLs NPF-91 and NPF-92. The proposed amendment is described in Section I of this Federal Register notice.

The Commission has determined for these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or COL, as applicable, proposed no significant hazards consideration determination, and opportunity for a hearing in connection with these actions, was published in the Federal Register on January 2, 2020 (85 FR 144). No comments were received during the 30-day comment period.

The Commission has determined that these amendments satisfy the criteria for categorical exclusion in accordance with 10 CFR 51.22. Therefore, pursuant to 10 CFR 51.22(b), no environmental impact statement or environmental assessment need be prepared for these amendments.

III. Conclusion

Using the reasons set forth in the combined safety evaluation, the staff approved the amendment and it was issued to SNC on April 30, 2020, as part of a combined package (ADAMS Package Accession No. ML20057E069).

Dated: May 13, 2020.
For the Nuclear Regulatory Commission.
Victor E. Hall,
Chief, Vogtle Project Office, Office of Nuclear Reactor Regulation.

[FR Doc. 2020-10668 Filed 5-18-20; 8:45 am]

BILLING CODE 7590-01-P